FEDERAL ELECTION COMMISSION

Sunshine Act Notices

AGENCY: Federal Election Commission.

Date and Time: Thursday, December 3, 2009, at 10 a.m.

Place: 999 E Street, NW., Washington, DC, (ninth floor).

Status: This meeting will be open to the public.

Items To Be Discussed: Correction and Approval of Minutes.

Adoption of Policy to Prepare and Publish a Guidebook for Complainants and Respondents in Enforcement Matters.

Agency Procedure.

Management and Administrative Matters.

Individuals who plan to attend and require special assistance, such as sign language interpretation or other reasonable accommodations, should contact Mary Dove, Commission Secretary, at (202) 694-1040, at least 72 hours prior to the hearing date.

Person to Contact for Information: Judith Ingram, Press Officer; Telephone: (202) 694-1220.

Mary W. Dove,
Secretary of the Commission.

[FR Doc. E9-29118 Filed 12-7-09; 8:45 am]

BILLING CODE 6715-01-M